FEDERAL COMMUNICATIONS COMMISSION

47 CFR Part 73

[DA 05-291; MB Docket No. 05-36; RM-11030; MB Docket No. 05-37; RM-10790]

Radio Broadcasting Services; Lovelady, TX, Lufkin, TX and Oil City, LA

AGENCY: Federal Communications Commission.

ACTION: Proposed rule.

SUMMARY: This document requests comments two petitions for rulemaking filed by Charles Crawford requesting the allotment of Channel 288A at Lovelady, Texas, as its second local aural transmission service and Channel 285A at Oil City, Louisiana, as its second local aural transmission service. The proposals also requires the reclassification of Station KYKS(FM), Lufkin, Texas, Channel 286C to specify operation on Channel 286C0 pursuant to the reclassification procedures adopted by the Commission. See Second Report and Order in MM Docket 98-93, 1998 Biennial Regulatory Review—Streamlining of Radio Technical Rules in Parts 73 and 74 of the Commission's Rules, 65 FR 79773 (2000). An Order to Show Cause was issued to Capstar TX Limited Partnership, licensee of Station KYKS. Channel 288A can be allotted at Lovelady in compliance with the Commission's minimum distance separation requirements with a site restriction of 12.5 kilometers (7.8 miles) southwest to avoid short-spacing to the license site of Station KTCJ, Channel 290C3, Centerville, Texas at reference coordinates 31-03-14 NL and 95-32-34 WL. Channel 285A can be allotted at Oil City in compliance with the Commission's minimum distance separation requirements with a site restriction of 15.6 kilometers (9.7 miles) west to avoid short-spacing to the license site of Station KORI, Channel 284C3, Mansfield, Louisiana.

DATES: Comments must be filed on or before March 28, 2005, and reply comments on or before April 12, 2005. Any counterproposal filed in this proceeding need only protect Station KYKS, Lufkin, as a Class C0 allotment.

ADDRESSES: Federal Communications Commission, 445 Twelfth Street, SW., Washington, DC 20554. In addition to filing comments with the FCC, interested parties should serve the petitioner as follows: Charles Crawford, 4553 Bordeaux Avenue, Dallas, Texas 75205.

FOR FURTHER INFORMATION CONTACT: Rolanda F. Smith, Media Bureau, (202) 418-2180.

SUPPLEMENTARY INFORMATION: This is a synopsis of the Commission's Notice of Proposed Rule Making, MB Docket No. 05-36, 05-37, adopted February 2, 2005, and released February 4, 2005. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Louisiana is amended by adding Channel 285A at Oil City.

3. Section 73.202(b), the Table of FM Allotments under Texas is amended by adding Channel 288A at Lovelady, and by removing Channel 286C and by adding Channel 286C0 at Lufkin.

Federal Communications Commission.
John A. Karousos,
Assistant Chief, Audio Division, Media Bureau.

[FR Doc. 05-3209 Filed 2-17-05; 8:45 am]

BILLING CODE 6712-01-P